FEDERAL COMMUNICATIONS COMMISSION

[OIA Docket No. 24-30; DA 24-670; FR ID 232285]

World Radiocommunication Conference Advisory Committee Schedules Its Second Meeting on August 5, 2024

AGENCY: Federal Communications Commission.

ACTION: Notice.

SUMMARY: In accordance with the Federal Advisory Committee Act, this notice advises interested persons that the secondary meeting of the World Radiocommunication Conference Advisory Committee (WRC Advisory Committee) will be held on August 5, 2024 at the Federal Communications Commission (FCC). The second meeting of the WRC Advisory Committee will consider status reports and recommendations from its Informal Working Groups (IWG) concerning preparation for the 2027 World Radiocommunication Conference (WRC-27). This meeting is open to the public. The meeting will be broadcast live with open captioning over the internet from the FCC Live web page at www.fcc.gov/live. There will be audience participation available; send live questions to livequestions@fcc.gov during this meeting. The Commission's WRC-27 website (www.fcc.gov/wrc-27) contains the latest updated information and agendas on all scheduled meetings and Advisory Committee matters. Comments may be presented at the WRC Advisory Committee meeting or in advance of the meeting by email to: WRC-27@fcc.gov.

DATES: Monday, August 5, 2024 at 9:30 a.m.

ADDRESSES: Federal Communications Commission, 45 L Street NE, Room 1.200, Washington, DC 20002.

FOR FURTHER INFORMATION CONTACT: Gregory Baker, Designated Federal Official, World Radiocommunication Conference Advisory Committee, FCC Office of International Affairs, Global Strategy and Negotiation Division, at gregory.baker@fcc.gov, (202)-919-0758 or WRC-27@fcc.gov.

SUPPLEMENTARY INFORMATION: The FCC established the WRC Advisory Committee to provide advice, technical support and recommendations relating to the preparation of United States proposals and positions for the 2027 World Radiocommunication Conference (WRC-27).

In accordance with the Federal Advisory Committee Act, Public Law 92-463, as amended, this notice advises interested persons of the second meeting of the WRC Advisory Committee. The Commission's WRC-27 website (www.fcc.gov/wrc-27) contains the latest information on the IWG and WRC Advisory Committee meeting agendas and audience participation information, all scheduled meeting dates and updates, and WRC Advisory Committee matters. The second WRC Advisory Committee meeting will be broadcast live with open captioning over the internet from the FCC Live web page at www.fcc.gov/live. There will be audience participation available; send live questions to livequestions@fcc.gov only during this meeting. Reasonable accommodations for people with disabilities are available upon request. Include a description of the accommodation you will need and tell us how to contact you if we need more information. Make your request as early as possible. Last minute requests will be accepted, but may be impossible to fill. Send an email to: FCC504@fcc.gov or call the Consumer and Governmental Affairs Bureau at 202-418-0530 (voice).

The proposed agenda for the second WRC Advisory Committee meeting is as follows:

Agenda

Second Meeting of the World Radiocommunication Conference Advisory Committee

Federal Communications Commission

Monday, August 5, 2024; 9:30 a.m.

1. Opening Remarks

2. Approval of Agenda

3. Approval of the Minutes of the First Meeting

4. IWG Reports and Consideration Documents

5. Future Meetings

6. Other Business

Nese Guendelsberger,
Deputy Office Chief, Office of International Affairs, Federal Communications Commission.

[FR Doc. 2024-15901 Filed 7-18-24; 8:45 am]

BILLING CODE 6712-01-P